DEPARTMENT OF COMMERCE

Foreign-Trade Zones Board

[Docket 37-2002]

Foreign-Trade Zone 1—New York; Application for Subzone, Bulova Corporation (Watches and Clocks), New York, NY

An application has been submitted to the Foreign-Trade Zones Board (the Board) by the City of New York, grantee of FTZ 1, requesting special-purpose subzone status for the warehousing and distribution facilities of Bulova Corporation, located in Woodside and Brooklyn, New York. The application was submitted pursuant to the provisions of the Foreign-Trade Zones Act, as amended (19 U.S.C. 81a-81u), and the regulations of the Board (15 CFR part 400). It was formally filed on September 23, 2002.

Bulova's facility is comprised of two sites. Site 1 (77,439 sq. ft., 319 employees) is located at 26-15 Brooklyn Queens Expressway, Woodside, New York; and Site 2 (87,000 sq. ft., 31 employees) is located at 77 Commercial Street in Brooklyn, New York.

The facilities repair, warehouse and distribute watch and clock products and parts. The products are distributed in the U.S. and worldwide. (About 12 percent are exported.) No authority is being sought for activity conducted under FTZ procedures that would result in a change in tariff classification.

Zone procedures would exempt Bulova from Customs duty payments on foreign products that are reexported. On its domestic sales, the company would be able to defer duty payments until merchandise is shipped from the facilities. The application indicates that the savings from zone procedures would help improve the facilities' international competitiveness.

In accordance with the Board's regulations, a member of the FTZ staff has been designated examiner to investigate the application and report to the Board.

Public comment is invited from interested parties. Submissions (original and 3 copies) shall be addressed to the Board's Executive Secretary at one of the following addresses:

1. Submission Via Express/Package Delivery Services: Foreign-Trade Zones Board, U.S. Department of Commerce, Franklin Court Building—Suite 4100W, 1099 14th St., NW, Washington, DC. 20005; or

2. Submissions Via the U.S. Postage Service: Foreign-Trade Zones Board, U.S. Department of Commerce, FCB—Suite 4100W, 1401 Constitution Ave. NW, Washington, DC 20230.

The closing period for their receipt is December 2, 2002. Rebuttal comments in response to material submitted during the foregoing period may be submitted during the subsequent 15-day period (to December 16, 2002).

A copy of the application and accompanying exhibits will be available for public inspection at the Office of the Foreign-Trade Zones Board's Executive Secretary at address Number 1 listed above, and the U.S. Department of Commerce Export Assistance Center, 20 Exchange Place, 40th Floor, New York, New York 10005.

Dated: September 24, 2002.
Dennis Puccinelli,
Executive Secretary.

[FR Doc. 02-25069 Filed 10-1-02; 8:45 am]

BILLING CODE 3510-DS-P